NUCLEAR REGULATORY COMMISSION

[Docket No. 50-354]

PSEG Nuclear LLC; Notice of Withdrawal of Application for Amendment to Facility Operating License

The U.S. Nuclear Regulatory Commission (NRC or the Commission) has granted the request of PSEG Nuclear LLC (the licensee) to withdraw its July 9, 2003, application, as supplemented by its August 14, 2003, letter, for a proposed amendment to Facility Operating License No. NPF-57 for the Hope Creek Generating Station, Unit No. 1, located in Salem County, New Jersey.

The proposed amendment would have revised the facility's Technical Specifications by extending the time allowed to complete repairs or upgrades to the control room emergency filtration (CREF) system up to 30 days.

The Commission had previously issued a Notice of Consideration of Issuance of Amendment published in the Federal Register on August 5, 2003 (68 FR 46245). However, by letter dated November 21, 2003, the licensee withdrew the proposed change.

For further details with respect to this action, see the application for amendment dated July 10, 2003, as supplemented by letter dated August 14, 2003, and the licensee's letter dated November 21, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS, should contact the NRC PDR reference staff by telephone at 1-800-397-4209, or 301-415-4737 or by e-mail to pdr@nrc.gov.

Dated at Rockville, Maryland, this 31st day of December 2003.
For the Nuclear Regulatory Commission.
John P. Boska,
Senior Project Manager, Section 2, Project Directorate I, Division of Licensing Project Management, Office of Nuclear Reactor Regulation.

[FR Doc. 04-316 Filed 1-6-04; 8:45 am]

BILLING CODE 7590-01-P